ENVIRONMENTAL PROTECTION AGENCY

[EPA-R05-OAR-2013-0825; FRL-9908-17-Region 5]

Michigan; Regional Haze State Implementation Plan; Petition for Reconsideration

AGENCY: Environmental Protection Agency (EPA).

ACTION: Notice of action denying petition for reconsideration.

SUMMARY: The Environmental Protection Agency (EPA) is providing notice of its response to a petition for reconsideration of a rule published in the Federal Register on December 3, 2012, addressing Clean Air Act regional haze planning requirements for the State of Michigan. The petition, submitted on January 17, 2013, on behalf of St. Marys Cement (SMC), asked EPA to reconsider its action promulgating emission limits representing best available retrofit technology for SMC's facility in Charlevoix, Michigan. EPA has denied the petition by action signed February 20, 2014, for reasons that EPA explains in the document denying SMC's petition.

DATES: Petitions for review must be filed by May 19, 2014.

ADDRESSES: EPA has established a docket for this action under Docket ID No. EPA-R05-OAR-2013-0825, which includes the petition for reconsideration, EPA's response, and other related documents. All documents are listed on the www.regulations.gov Web site. Publicly available docket materials are available either electronically through www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone John Summerhays, Environmental Scientist, at (312) 886-6067 before visiting the Region 5 office.

FOR FURTHER INFORMATION CONTACT: John Summerhays, Environmental Scientist, Air Planning and Maintenance Section, at 312-886-6067, summerhays.john@epa.gov, or at Air Programs Branch (AR-18J), Environmental Protection Agency, Region 5, 77 West Jackson Boulevard, Chicago, Illinois 60604.

SUPPLEMENTARY INFORMATION: This action pertains to a particular facility in Charlevoix, Michigan, and is not based on a determination of nationwide scope or effect. Thus, under section 307(b)(1) of the Clean Air Act, any petitions for review of EPA's action denying the SMC petition for reconsideration must be filed in the Court of Appeals for the Sixth Circuit on or before May 19, 2014.

Dated: March 6, 2014.
Susan Hedman,
Regional Administrator, Region 5.

[FR Doc. 2014-05905 Filed 3-17-14; 8:45 am]

BILLING CODE 6560-50-P